DEPARTMENT OF STATE

[Public Notice 10021]

Notice of Public Meeting

The Department of State will conduct an open meeting at 9:00 a.m. on Wednesday, July 12, 2017, in Room 5L18-01 of the Douglas A. Munro Coast Guard Headquarters Building at St. Elizabeth's, 2703 Martin Luther King Jr. Avenue SE., Washington, DC 20593. The primary purpose of the meeting is to prepare for the sixty-seventh session of the International Maritime Organization's (IMO) Technical Cooperation Committee (TCC 67) to be held at the IMO Headquarters, United Kingdom, 17-19 July, 2017 and the one hundred and eighteenth session of the IMO Council (C 118) to be held at the IMO Headquarters, United Kingdom, 24-28 July, 2017.

The agenda items to be considered include:

Sixty-Seventh Session of the Technical Co-Operation Committee

—Adoption of the agenda

—Work of other bodies and organizations

—Integrated Technical Cooperation Programme (Annual report for 2016 & Programme for 2018 and 2019)

—Financing of the Integrated Technical Cooperation Programme (Technical Cooperation Fund Allocation for 2018 and 2019, Review and revision of the 2007 Strategy on the long-term financing of the Integrated Technical Cooperation Programme, and Sustainable financing)

—The 2030 Agenda for Sustainable Development (Maritime transport policy development, Country Maritime Profiles, Related developments within the United Nations system, Linkage with IMO's technical assistance work, and Revision of the Assembly resolutions relating to technical cooperation)

—Partnerships (Regional presence and coordination and Partnership arrangements)

—Voluntary IMO Member State Audit Scheme and IMO Member States Audit Scheme (Analysis of the consolidated audit summary reports of the Voluntary IMO Member State Audit Scheme and Developments with respect to IMO Member States Audit Scheme)

—Capacity Building: Strengthening the impact of women in the maritime sector

—Global maritime training institutions (World Maritime University, IMO International Maritime Law Institute, and Other established arrangements)

—Impact Assessment Exercise (Follow-up to the exercise for the period 2012-2015 and Matters relating to future exercises)

—Development of a new Strategic Framework for the Organization for 2018-2023

—Application of the Committee's guidelines

—Work programme

—Election of Chairman and Vice-Chairman for 2018

—Amendment of the Rules of Procedure of the Committee

—Any other business

—Consideration of the report of the Committee on its sixty-seventh session

One Hundred and Eighteenth Session of Council

—Adoption of the agenda

—Report of the Secretary-General on credentials

—Strategy, planning and reform

—Resource management (Human resource matters, accounts and audits for 2016 budget year, Report on investments, Report on arrears of contributions and advances to the Working Capital Fund, Budget considerations for 2017)

—Results-based budget for 2018-2019

—IMO Member State Audit Scheme

—Consideration of the report of the Facilitation Committee

—Consideration of the report of the Legal Committee

—Consideration of the reports of the Maritime Safety Committee

—Consideration of the report of the Technical Cooperation Committee

—Technical Cooperation Fund (Report on activities of the 2016 programmes & Preliminary biennial allocation to support the ITCP for 2018-2019)

—World Maritime University (Report of the Board of Governors, Budget, Proposed Charter amendments)

—IMO International Maritime Law Institute (Report of the Board of Governors, Budget and Proposed amendments to the Charter of the World Maritime University)

—Protection of vital shipping lanes

—Principles to be considered in the review of existing requirements and the development of new requirements

—Assembly matters (Provisional agenda, Preparations for Assembly, and Draft report of the Council to the Assembly)

—External relations (With the U.N. and the specialized agencies, Joint Inspection Unit, Relations with intergovernmental organizations, Relations with non-governmental organizations, World Maritime Day, International Maritime Prize, IMO Award for Exceptional Bravery at Sea, Report of the Day of the Seafarer, and IMO Maritime Ambassador Scheme)

—Report on the status of the convention and membership of the Organization

—Report on the status of conventions and other multilateral instruments in respect of which the Organization performs functions

—Place, date and duration of the next two sessions of the Council and substantive items for inclusion in the provisional agendas for the next two sessions of Council (C/ES.29 and C 119)

—Supplementary agenda items, if any

Members of the public may attend this meeting up to the seating capacity of the room. To facilitate the building security process, and to request reasonable accommodation, those who plan to attend should contact the meeting coordinator, LCDR Staci Weist, by email at Eustacia.Y.Weist@uscg.mil, by phone at (202) 372-1376, or in writing at 2703 Martin Luther King Jr. Ave. SE., Stop 7509, Washington DC 20593-7509 not later than July 5, 2017. Requests made after July 5, 2017 might not be able to be accommodated.

Please note that due to security considerations, two valid, government issued photo identifications must be presented to gain entrance to the Coast Guard Headquarters building. It is recommended that attendees arrive to Coast Guard Headquarters no later than 30 minutes ahead of the scheduled meeting for the security screening process. Coast Guard Headquarters is accessible by taxi and public transportation. Parking in the vicinity of the building is extremely limited. Additional information regarding this and other IMO public meetings may be found at: www.uscg.mil/imo.

Jonathan W. Burby,
Coast Guard Liaison Officer, Office of Ocean and Polar Affairs, Department of State.

[FR Doc. 2017-11811 Filed 6-6-17; 8:45 am]

BILLING CODE 4710-09-P